DEPARTMENT OF COMMERCE

National Oceanic and Atmospheric Administration

Proposed Information Collection; Comment Request; West Coast Saltwater Fishing Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 22, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Leif Anderson, (206) 302-2403 or Leif.Anderson@noaa.gov.

SUPPLEMENTARY INFORMATION:

I. Abstract

This request is for a new collection of information.

The Northwest Fisheries Science Center and Southwest Fisheries Science Center are undertaking an economics research project to assess the behavior of saltwater recreational anglers in response to catch rates, bag limits, and the timing and length of the season, and how these actions affect the value of saltwater recreational fishing. The West Coast Saltwater Fishing Survey (WCSFS) will provide critical economic data related to saltwater recreational fishing on the Pacific West Coast. More specifically, the WCSFS will collect data needed to (1) assess the socioeconomic characteristics of recreational saltwater fishing participants; (2) assess the economic value of saltwater recreational fishing trips through statistical estimation of models; and (3) assess the change in these values associated with possible changes in management policies related to catch rates, bag limits, season timing and length, time and area closures, and changes in economic, ocean, or fishery conditions.

II. Method of Collection

A sample of fishing license holders will be screened with a brief telephone or email survey (screener), followed by an internet or mail survey, as appropriate.

III. Data

OMB Control Number: 0648-xxxx.

Form Number(s): None.

Type of Review: Regular submission (new information collection).

Affected Public: Individuals or households.

Estimated Number of Respondents: 8744.

Estimated Time per Response: 25 minutes for respondents who saltwater fish on the West Coast, 10 minutes for all other respondents, plus 5 minutes for those reached by the phone or email screener.

Estimated Total Annual Burden Hours: 531.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 17, 2016.
Sarah Brabson,
NOAA PRA Clearance Officer.

[FR Doc. 2016-14750 Filed 6-21-16; 8:45 am]

BILLING CODE 3510-22-P